DEPARTMENT OF ENERGY

Federal Energy Regulatory Commission

[Docket No. RP04-163-000]

Midwestern Gas Transmission Company; Notice of Proposed Changes in FERC Gas Tariff

February 12, 2004.

Take notice that on February 9, 2004, Midwestern Gas Transmission Company (Midwestern) tendered for filing to become part of its FERC Gas Tariff, Third Revised Volume No. 1, Sixth Revised Sheet No. 201, Third Revised Sheet No. 247, Original Sheet No. 275, and Sheet Nos. 276-399, to become effective March 10, 2004.

Midwestern is proposing to add a new section 35 to the General Terms and Conditions of its tariff to establish a provision regarding the reservation of capacity for future expansion/extension projects and to clarify the contract term extension rights for interim shippers for capacity reserved under section 16.

Midwestern states that copies of this filing have been sent to all of Midwestern's contracted shippers and interested State regulatory commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the eFiling link.

Magalie R. Salas,
Secretary.

[FR Doc. E4-329 Filed 2-18-04; 8:45 am]

BILLING CODE 6717-01-P